DEPARTMENT OF AGRICULTURE

Departmental Administration; Public Hearing on BioPreferred Voluntary Labeling Program

AGENCY: Departmental Administration, USDA.

ACTION: Notice of public hearing.

SUMMARY: The Department of Agriculture (USDA) will hold a public meeting for interested stakeholders to provide an open forum to solicit feedback on the establishment of the BioPreferred voluntary labeling program. This program will allow USDA to authorize manufacturers and vendors of qualifying biobased products to use a “USDA Certified Biobased Product” label.

DATES: The public hearing will be held on Tuesday, July 22, 2008, from 1 p.m. to approximately 5 p.m.

ADDRESSES: The meeting will take place at the U.S. Department of Agriculture, South Building, Jefferson Auditorium, 1400 Independence Avenue, SW., Washington, DC 20250.

Pre-registration for this meeting is not required. However, for security purposes and to facilitate a smooth entry into a Federal facility, attendees may provide their names in advance as spelled on government issued identification via e-mail to biopreferred@usda.gov. Additionally, attendees are encouraged to gain entry into the building at Wing 7 on the corner of 14th Street and Independence Avenue, SW., and will be required to present government issued identification.

Those unable to attend the public meeting in person may participate via an audio bridge by calling 1 (800) 857-5233, verbal pass code “Town Hall.” For technical assistance, call (202) 720-8560. All callers using the above pass code will be placed in “listen-only” mode during the presentation of information. Participants using the audio bridge may verbally join the “Question and answer” portion of the meeting, by pressing *1 on a touch-tone telephone or by e-mailing questions or comments during the meeting to biopreferred@usda.gov.

Written comments may be submitted through Friday, August 1, 2008, to biopreferred@usda.gov. Copies of the meeting agenda may be viewed at http://greening.usda.gov or by contacting Mrs. Shana Love at the postal address, e-mail address, or phone listed below.

FOR FURTHER INFORMATION CONTACT: Mrs. Shana Love, Departmental Administration, Room 209-A, Whitten Building, 1400 Independence Avenue, SW., Washington, DC 20250-0103; telephone (202) 205-4008; fax (202) 720-2191; e-mail biopreferred@usda.gov.

SUPPLEMENTARY INFORMATION: Section 9002 of the Farm Security and Rural Investment Act of 2002 (FSRIA) (Pub. L. 107-171) established a program for the procurement of biobased products by Federal agencies and a voluntary program for labeling of biobased products. USDA refers to the program for the Federal procurement of biobased products and the voluntary program for labeling of biobased products, collectively, as the BioPreferred Program. The Food, Conservation, and Energy Act of 2008 (Pub. L. 110-246) continues and expands provisions related to the BioPreferred Program.

Under the voluntary labeling program, the Department will authorize manufacturers and vendors of biobased products to use the label “USDA Certified Biobased Product.” In establishing the voluntary labeling program, USDA must identify criteria for determining which products may qualify to receive the label and specific requirements for how the label can be used.

USDA has one primary objective in establishing the voluntary labeling program: To encourage the purchase of biobased products. USDA believes that products carrying the label will become readily recognizable as biobased products, distinct from those that do not carry the label. Further, as the program matures and the label is used over time, consumers will recognize that products carrying the label meet certain criteria that set them apart from other biobased products.

In establishing the voluntary labeling program, USDA is seeking information from interested stakeholders in the following areas:

1. Who can apply for the label.

USDA is considering allowing both manufacturers and vendors of biobased products to apply for use of the label for their products. USDA is interested in comments on whether it is appropriate to include vendors as an entity eligible to apply the label, as some of the requirements associated with approval for use of the label will require information generally only available to the manufacturer. However, vendors may have more incentive to sell products carrying the label than the product manufacturer. USDA thus believes allowing vendors to apply for the label could further promote biobased products.

2. Applicable minimum biobased contents required for products to receive label certification.

USDA is considering allowing labeling for three categories of products: (a) Products within one or more designated biobased items within the BioPreferred Program; (b) products within non-designated items that are not mature market products; and (c) products not eligible for designation because of market maturity. For the latter two categories, where no minimum content has previously been designated, USDA is considering requiring a 50 percent minimum biobased content for use of the label.

USDA is also considering a process to allow a manufacturer, vendor, or trade association to seek an “alternative minimum biobased content” for products within categories (b) and (c) above, if they believe that the 50 percent minimum biobased content is not appropriate for their product(s). As part of seeking the alternative content levels, certain analysis and information, such as identifying similar biobased products and their manufacturers, would likely be required. While the specific analysis required will be determined on a case-by-case basis, USDA anticipates that each analysis will be similar to the process USDA uses to set minimum biobased contents under the preferred procurement program.

The public meeting discussion in part will address (a) the 50 percent applicable minimum biobased contents that products within these two categories must meet in order to be eligible for use of the label and (b) the procedure under which an applicant can request alternative applicable minimum biobased content (that is, an applicable minimum biobased content other than 50 percent).

3. Testing procedures.

USDA is seeking comment on where required testing procedures for determining and validating biobased content and the life-cycle costs and environmental and human health effects of the labeled products [as determined by the Building Environmental and Economic Sustainability (BEES) or American Society for Testing and Materials (ASTM) analyses] are performed. USDA is considering permitting these tests to be performed by either a qualified third-party testing entity or by the manufacturer or vendor whose testing facilities are ASTM or International Organization for Standardization (ISO) compliant. Additionally, USDA is considering requiring that if the manufacturer or vendor chose to perform the tests that they be practitioners certified by a professional body, such as the American Center for Lifecycle Analysis.

4. Label content.

USDA is seeking comment on what information should be included on the label, such as a statement identifying the biobased content of the product, whether the label applies to the product, its packaging, or both, and use of the word “BioPreferred” in the label.

a. Biobased Content. USDA is considering requiring that the biobased content of the product be included on the label. USDA believes that including the biobased content of the product on the label will provide all consumers and purchasers of biobased products additional information that will further the purchase of such products.

b. Biobased Product Statement. It may also be important to identify for the consumer that the label applies to either the product or the packaging or both. Therefore, USDA is considering that the label include the appropriate biobased product statement(s) to make this clear. USDA is seeking comment on whether the biobased product statement or similar statements are needed. USDA is considering that the biobased product statement be integrated into the actual label that would be applied to the product or its packaging. USDA is also seeking comment and suggestion on how to clearly demonstrate the applicability of the label on the product, packaging, or in some other fashion.

c. Other possible label content. USDA in also considering the possible advantages and disadvantages of requiring additional information on the label. For example, information on product performance and/or on the life-cycle costs and environmental and human health effects of the labeled products (as determined by the BEES or ASTM analyses). The primary advantage of providing additional information on the label is to further educate purchasers about the environmental and health attributes of the biobased products they choose to purchase. However, because the results of the BEES and ASTM analyses are not available for non-labeled products and because they are only comparable between products within the same designated item or grouping of products, the labels could be misleading to purchasers. Also, the amount of space that would be needed for a legible presentation of this information could be a serious drawback for many small products (for example, household cleaners, hair care products, lip care products).

The public meeting in part will address the value of providing additional information on the label, what types of information should be included, and how it should be presented. Consideration should also be given to the fact that some of this additional information may be made available on the BioPreferred Program Web site.

d. Identifying products that are also eligible for preferred procurement under the BioPreferred Program. USDA is proposing to include the word “BioPreferred” on the label to identify those labeled products that are also eligible for preferred procurement under the BioPreferred Program. USDA is seeking comments on other options that can be used to identify products that are also eligible for preferred procurement under the BioPreferred Program. For example, one alternative USDA considered was requiring the use of a separate label that would simply say “BioPreferred.” Another alternative USDA considered was to require manufacturers to indicate in the product's literature that the product is eligible for preferred procurement under the BioPreferred Program rather than requiring such information on the label itself.

Dated: July 1, 2008.
Boyd K. Rutherford,
Assistant Secretary for Administration.

[FR Doc. E8-15411 Filed 7-7-08; 8:45 am]

BILLING CODE 3410-93-P